DEPARTMENT OF ENERGY

Extension of Public Comment Period, Draft Environmental Impact Statement for the Plains & Eastern Clean Line Transmission Project

AGENCY: Department of Energy.

ACTION: Extension of public comment period.

SUMMARY: The U.S. Department of Energy (DOE) published a notice of availability and public hearing on December 17, 2014 and a correction on December 29, 2014 that provided for a comment period ending March 19, 2015. DOE is extending the public comment period for the Draft Environmental Impact Statement for the Plains & Eastern Clean Line Transmission Project (DOE/EIS-0486) to April 20, 2015.

DATES: DOE extends the public comment period to April 20, 2015. Comments submitted to DOE concerning the Plains & Eastern EIS prior to this announcement do not need to be resubmitted as a result of this extension of the comment period.

ADDRESSES: Written comments on the Draft EIS may be provided on the EIS Web site at http://www.plainsandeasterneis.com (preferred) or addressed to Plains & Eastern EIS, 216 16th Street, Suite 1500, Denver, Colorado 80202; via email to comments@PlainsandEasternEIS.com; or by facsimile to (303) 295-2818. Please mark envelopes and email subject lines as Plains & Eastern Draft EIS Comments.

FOR FURTHER INFORMATION CONTACT: Jane Summerson, Ph.D., DOE NEPA Document Manager on behalf of the Office of Electricity Delivery and Energy Reliability, U.S. Department of Energy, NNSA, PO Box 391 Building 401, Kirtland Air Force Base East, Albuquerque, NM 87185; email at Jane.Summerson01@nnsa.doe.gov; or phone (505) 845-4091.

SUPPLEMENTARY INFORMATION: On December 17, 2014, DOE published a notice of availability and public hearing (79 FR 75132) and on December 29, 2014, DOE published a correction (79 FR 78079) that announced that comments on the Plains & Eastern EIS should be submitted within a 90-day period beginning on December 19, 2014 and ending on March 19, 2015. DOE is extending the time allowed for submittal of comments to April 20, 2015.

Issued in Washington, DC, on February 6, 2015.
Patricia A. Hoffman,
Principal Deputy Assistant Secretary, Office of Electricity Delivery and Energy Reliability.

[FR Doc. 2015-02947 Filed 2-11-15; 8:45 am]

BILLING CODE 6450-01-P